DEPARTMENT OF ENERGY

Federal Energy Regulatory Commission

[Project No. 2030-212]

Portland General Electric Company; Confederated Tribes of the Warm Springs Reservation of Oregon; Notice of Application for Amendment of License and Soliciting Comments, Motions To Intervene, and Protests

December 18, 2009.

Take notice that the following hydroelectric application has been filed with the Commission and is available for public inspection:

a. Application Type: Amendment of License.

b. Project No.: 2030-212.

c. Date Filed: November 10, 2009.

d. Applicant: Portland General Electric Company and the Confederated Tribes of the Warm Springs Reservation of Oregon.

e. Name of Project: Pelton Round Butte Hydroelectric Project.

f. Location: The project is located on the Deschutes River in Jefferson County, Oregon. The project occupies 3,503.74 acres of federal and tribal lands administered by the U.S. Forest Service, U.S. Bureau of Land Management, and U.S. Bureau of Indian Affairs.

g. Filed Pursuant to: Federal Power Act, 16 U.S.C. 791a—825r.

h. Applicant Contact: Ms. Julie A. Keil, Director of Hydro Licensing, Portland General Electric Company, 121 SW Salmon Street, Portland, Oregon 97204; telephone (503) 464-8864.

i. FERC Contact: Linda Stewart, telephone (202) 502-6680, and e-mail address linda.stewart@ferc.gov.

j. Deadline for filing comments, motions to intervene, and protests: (January 19, 2010).

Comments, protests, and interventions may be filed electronically via the Internet in lieu of paper. See 18 CFR 385.2001(a)(1)(iii) and the instructions on the Commission's Web site (http://www.ferc.gov) under the “e-filing” link. The Commission strongly encourages electronic filings.

All documents (original and eight copies) filed by paper should be sent to: Secretary, Federal Energy Regulatory Commission, 888 First Street, NE., Washington, DC 20426. Please include the project number (P-2030-212) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: Portland General Electric Company and the Confederated Tribes of the Warm Springs Reservation of Oregon propose to: (1) Discontinue the use of the new U. S. Geological Survey (USGS) Madras gage installed pursuant to the current license and instead use the previous gage for monitoring; (2) modify the language of Articles 409 (stage change limits) and 412 (required minimum flows) to eliminate inconsistencies that exist between the articles; and (3) modify the Project Operating Plan (Exhibit C of Settlement Agreement) and the Operations Compliance Plan (Article 415) to provide for the use of the previous USGS Madras gage for monitoring.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E9-30809 Filed 12-28-09; 8:45 am]

BILLING CODE 6717-01-P